DEPARTMENT OF VETERANS AFFAIRS

[OMB Control No. 2900-0525]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before November 6, 2006.

For Further Information or a Copy of the Submission Contact: Denise McLamb, Initiative Coordination Service (005G1), Department of Veterans Affairs, 810 Vermont Avenue, NW., Washington, DC 20420, (202) 565-8374, FAX (202) 565-7870 or e-mail: denise.mclamb@mail.va.gov. Please refer to “OMB Control No. 2900-0525.”

Send comments and recommendations concerning any aspect of the information collection to VA's OMB Desk Officer, OMB Human Resources and Housing Branch, New Executive Office Building, Room 10235, Washington, DC 20503 (202) 395-7316. Please refer to “OMB Control No. 2900-0525” in any correspondence.

SUPPLEMENTARY INFORMATION:

Title: VA MATIC Change, VA Form 29-0165.

OMB Control Number: 2900-0525.

Type of Review: Extension of a currently approved collection.

Abstract: Claimants complete VA Form 29-0165 to enroll in VA MATIC or change their financial institution from which VA currently deducts their Government Life Insurance premium.

An agency may not conduct or sponsor, and a person is not required to respond to a collection of information unless it displays a currently valid OMB control number. The Federal Register Notice with a 60-day comment period soliciting comments on this collection of information was published on July 13, 2006, at page 39705.

Affected Public: Individuals or households.

Estimated Annual Burden: 1,250 hours.

Estimated Average Burden Per Respondent: 15 minutes.

Frequency of Response: On occasion.

Estimated Number of Respondents: 5,000.

Dated: September 25, 2006.
By direction of the Secretary:
Denise McLamb,
Program Analyst, Initiative Coordination Service.

[FR Doc. E6-16511 Filed 10-5-06; 8:45 am]

BILLING CODE 8320-01-P